INTER-AMERICAN FOUNDATION BOARD MEETING

Sunshine Act Meeting Notice

TIME AND DATE: December 14, 2009. 9 a.m.-1:30 p.m.

PLACE: 901 N. Stuart Street, Tenth Floor, Arlington, Virginia 22203.

STATUS: Open session except for the portion specified as closed session as provided in 22 CFR Part 1004.4 (f).

Matters To Be Considered

■ Approval of the Minutes of the September 28, 2009, Meeting of the Board of Directors.

■ President's Report.

■ Congressional Affairs.

■ IAF Program Activities.

■ Operations.

■ RedEAmerica.

■ IAF Advisory Council Update.

■ Schedule of Upcoming Events.

■ Executive Session—Personnel Issues.

Portions To Be Open to the Public

■ Approval of the Minutes of the September 28, 2009, Meeting of the Board of Directors.

■ President's Report.

■ Congressional Affairs.

■ IAF Program Activities.

■ Operations.

■ RedEAmerica.

■ IAF Advisory Council Update.

■ Schedule of Upcoming Events.

Portions To Be Closed to the Public

■ Executive Session—Personnel issues. Closed session as provided in 22 CFR Part 1004.4 (f).

CONTACT PERSON FOR MORE INFORMATION: Jennifer Hodges Reynolds, General Counsel, (703) 306-4301.

Dated: December 2, 2009.
Jennifer Hodges Reynolds,
General Counsel.

[FR Doc. E9-29238 Filed 12-3-09; 4:15 pm]

BILLING CODE 7025-01-P